DEPARTMENT OF AGRICULTURE

Forest Service

Long Ridge Project, Clearwater National Forest, Idaho County, ID

AGENCY: Forest Service, USDA.

ACTION: Notice of intent to prepare an environmental impact statement

SUMMARY: The USDA, Forest Service, will prepare an Environmental Impact Statement (EIS) to disclose the environmental effects of timber harvest and watershed restoration activities in the Long Ridge project area on the Lochsa Ranger District of the Clearwater National Forest. The Long Ridge project area is located in the Musselshell Creek drainage, a tributary to Lolo Creek, approximately 8 air-miles southeast of the town of Pierce, Idaho.

DATES: This project will be scoped beginning in May 2006. Comments that are received during the scoping period will be used to develop alternatives to the proposed action in the Draft Environmental Impact Statement. A 45-day public comment period will follow the release of the Draft Environmental Impact Statement that is expected in December 2006. The Final Environmental Impact Statement is expected in June 2007.

ADDRESSES: Written comments and suggestions concerning the scope of this project should be sent to Lois Foster (lfoster@fs.fed.us), Interdisciplinary Team Leader, Lochsa Ranger District, Kamiah Ranger Station, Rt. 2, Box 191, Kamiah, ID 83536.

FOR FURTHER INFORMATION CONTACT: Lois Foster (lfoster@fs.fed.us), Interdisciplinary Team Leader, Lochsa Ranger District, Kamiah Ranger Station, Rt. 2, Box 191, Kamiah, ID 83536. Phone (208) 935-4258.

SUPPLEMENTARY INFORMATION: The Long Ridge Project area contains approximately 4,200 acres, all of which are National Forest lands. The legal location is portions of Sections 27, 32, 33, and 34, T36N, R6E; and Sections 4, 5, 8, 9, and 17, T35N, R6E; Boise Meridian, Idaho County, Idaho. The proposed actions would occur on National Forest lands and are all outside the boundaries of any inventoried roadless area or any areas considered for inclusion in the National Wilderness System as recommended by the Clearwater National Forest Plan or by any past or present legislative wilderness proposals.

Purpose and Need for Action is to: (1) Reestablish white pine and larch as major components of the forest ecosystem, and change the tree species mix to more closely resemble the historic species composition for this landscape; (2) Remove dead trees on the ground that are currently creating high fuels levels, and reduce the excessive numbers of standing dead and dying trees that will contribute to ground fuels in the future; and (3) Capture the commercial value of the timber in these stands before it is lost due to mortality and decay.

The Proposed Action would harvest timber using regeneration harvest on approximately 850 acres within the Musselshell Creek drainage. Regeneration harvest would leave approximately 15-20 trees per acre as individual trees and in groups, where feasible, to provide a continued source of nutrients and organic materials to the soils to maintain site productivity, and to provide future snags and down woody material for wildlife habitat. To facilitate timber removal, existing temporary and permanent roads would be used. Gravel would be replaced and additional cross drains would be installed on approximately 5 miles of existing roads, and an estimated 2 miles of new permanent roads would be constructed. Approximately 5 miles of existing roads that are not needed for future management access would be obliterated following completion of sale-related activities.

Possible Alternatives the Forest Service will consider include a “no action” alternative in which none of the proposed activities would be implemented. Additional alternatives that will be considered may include varying levels and locations for the proposed activities to achieve the purpose and need for action, as well as to respond to the issues and other resource concerns.

The Responsible Official is the Forest Supervisor of the Clearwater National Forest, 12730 Highway 12, Orofino, ID 83544. The Responsible Official will decide if the proposed project will be implemented, and will document the decision and reasons for the decision in a Record of Decision. That decision will be subject to Forest Service Appeal Regulations. The responsibility for preparing the DEIS and FEIS has been delegated to Cindy Lane, District Ranger, Lochsa Ranger District, Rt. 1, Box 398, Kooskia, ID 83539.

The Scoping Process will be initiated with the release of a Scoping Letter in April 2006. Comments that are received in response to the Scoping Letter will be included in the documentation for the EIS. Additional scoping will follow the release of the DEIS, expected in December 2006. This proposal also includes openings greater than 40 acres. A 60-day public review period and approval by the Regional Forester for exceeding the 40-acre limitation will occur prior to the signing of the Record of Decision. The 60-day public review period is initiated with this Notice of Intent.

Preliminary Issues that could be affected by proposed activities include air quality, economics, fuels treatment, future management accessibility, grazing, heritage resources, old growth habitat, recreation access, scenic quality, size of openings, soil compaction and productivity, tribal treaty rights, and water quality.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages. Inc. v. Harris, 490 F.Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: April 27, 2006.
Thomas K. Reilly,
Forest Supervisor.

[FR Doc. 06-4757 Filed 5-22-06; 8:45 am]

BILLING CODE 3410-11-M